FEDERAL MARITIME COMMISSION

Ocean Transportation Intermediary License Reissuances

Notice is hereby given that the following Ocean Transportation Intermediary licenses have been reissued by the Federal Maritime Commission pursuant to section 19 of the Shipping Act of 1984, as amended by the Ocean Shipping Reform Act of 1998 (46 U.S.C. app. 1718) and the regulations of the Commission pertaining to the licensing of Ocean Transportation Intermediaries, 46 CFR part 515.

License No. | Name/address | Date reissued
3504F | Indo-China Express, Inc. dba Shipper's Express, 211 Tenth Street, Suite 201, Oakland, CA 94607 | March 4, 2002.
16421N | Korea Express Atlanta, Inc. dba Korea Freight Line, Inc., 5559 New Peachtree Road, Chamblee, GA 30341 | February 16, 2002.

Sandra L. Kusumoto,
Director, Bureau of Consumer Complaints and Licensing.

[FR Doc. 02-12162 Filed 5-14-02; 8:45 am]

BILLING CODE 6730-01-P